DEPARTMENT OF JUSTICE

Notice of Lodging of Proposed Consent Decree Under the Comprehensive Response, Compensation, and Liability Act

On September 21, 2016, a proposed consent decree was lodged with the United States District Court for the District of Utah in the lawsuit entitled United States v. Atlantic Richfield Company, Inc., Civil Action No. 2:16-cv-00982-DBP.

The United States filed this lawsuit against Atlantic Richfield Company (“Atlantic Richfield”) pursuant to Section 107 of the Comprehensive Environmental Response, Compensation and Liability Act (“CERCLA”), 42 U.S.C. 9607. The United States' complaint seeks injunctive relief and the recovery of past and future response costs incurred and to be incurred at the International Smelting and Refining Site (the “Site”) in Tooele County, Utah. The proposed consent decree requires Atlantic Richfield to pay $560,000 in past response costs, pay future oversight costs, and undertake certain operation and maintenance activities at the Site.

The publication of this notice opens a period for public comment on the consent decree. Comments should be addressed to the Assistant Attorney General, Environment and Natural Resources Division, and should refer to United States v. Atlantic Richfield Company, Inc., D.J. Ref. No. 90-11-3-07569/1. All comments must be submitted no later than thirty (30) days after the publication date of this notice. Comments may be submitted either by email or by mail in the following manner:

To submit comments: | Send them to:
By email | pubcomment-ees.enrd@usdoj.gov.
By mail | Assistant Attorney General U.S. DOJ—ENRD, P.O. Box 7611, Washington, DC 20044-7611.

During the public comment period, the consent decree may be examined and downloaded at this Justice Department Web site: https://www.justice.gov/enrd/Consent_Decrees. We will provide a paper copy of the consent decree upon written request and payment of reproduction costs. Please mail your request and payment to: Consent Decree Library, U.S. DOJ—ENRD, P.O. Box 7611, Washington, DC 20044-7611.

Please enclose a check or money order for $9.75 (25 cents per page reproduction cost) payable to the United States Treasury.

Robert Brook,
Assistant Chief, Environmental Enforcement Section, Environment and Natural Resources Division.

[FR Doc. 2016-23554 Filed 9-28-16; 8:45 am]

BILLING CODE 4410-15-P